DEPARTMENT OF EDUCATION

Extension of the Application Deadline Date for the Supporting Effective Educator Development Program Grant Application

AGENCY: Office of Innovation and Improvement, Department of Education.

ACTION: Notice.

SUMMARY: On April 20, 2017, we published in the Federal Register a notice inviting applications for new awards for fiscal year (FY) 2017 for the Supporting Effective Educator Development (SEED) program. This notice extends the deadlines for transmittal of applications and intergovernmental review. All other requirements and conditions stated in the notice inviting applications remain the same.

DATES: Deadline for Transmittal of Applications: June 21, 2017.

Deadline for Intergovernmental Review: August 20, 2017.

FOR FURTHER INFORMATION CONTACT: Richard Wilson, U.S. Department of Education, 400 Maryland Avenue SW., Room 4W111, Washington, DC 20202-5960. Telephone: (202) 453-6709, or by email: SEED@ed.gov.

If you use a telecommunications device (TDD) for the deaf or a text telephone (TTY), call the Federal Relay Service, toll free, at 1-800-877-8339.

SUPPLEMENTARY INFORMATION: On April 20, 2017, we published, in the Federal Register (82 FR 18619), a notice inviting applications for new awards for FY 2017 for the SEED program. We are extending the deadlines for transmittal of applications and intergovernmental review to June 21, 2017 and August 20, 2017, respectively.

Grants.gov is scheduled to be unavailable for maintenance on Saturday, June 17, 2017 at 12:01 a.m., Washington, DC time through Monday, June 19, 2017 at 6:00 a.m., Washington, DC time. Because this scheduled maintenance is the weekend prior to the original closing date, we are extending the deadline to allow additional time for applicants to submit their applications.

All other requirements and conditions stated in the notice inviting applications remain the same.

Program Authority: Section 2242 of the Elementary and Secondary Education Act of 1965, as amended by the Every Student Succeeds Act (20 U.S.C. 6672).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Catalog of Federal Domestic Assistance (CFDA) Number: 84.423A.

Dated: May 3, 2017.
Margo Anderson,
Acting Deputy Assistant Secretary, Office of Innovation and Improvement.

[FR Doc. 2017-09298 Filed 5-5-17; 8:45 am]

BILLING CODE 4000-01-P